DEPARTMENT OF TRANSPORTATION

Federal Aviation Administration

14 CFR Part 71

[Docket No. FAA-2022-0623; Airspace Docket No. 22-AGL-13]

RIN 2120-AA66

Amendment of Area Navigation (RNAV) Route Q-440; MI

AGENCY: Federal Aviation Administration (FAA), DOT.

ACTION: Final rule.

SUMMARY: This action amends the legal description of area navigation (RNAV) route Q-440 by changing one route point reflected as a fix to a waypoint (WP) and removing one route point that is not required for defining the route structure. This action does not change the Q-440 structure, charted alignment, or the operating requirements of the route.

DATES: Effective date 0901 UTC, September 8, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route description, but retains the route structure as necessary to preserve the safe and efficient flow of air traffic within the National Airspace System (NAS).

History

RNAV route Q-440 extends through the Great Lakes region into New England between the HUFFR, MN, WP and the RAAKK, NY, WP. After reviewing Q-440 in preparation of upcoming planned navigational aid decommissioning actions, the FAA determined one route point listed in the route description could be removed without affecting the route's structure or charted alignment. The SLLAP, MI, WP in the Q-440 description does not denote a route turn point, have established holding requirements, and does not result in PBN leg length maximum allowable distances being exceeded; therefore, it is not required in the description.

Further, the FAA is changing the DEANI, MI, fix to become a WP in the aeronautical database. As such, the DEANI, MI, fix will be amended in the Q-440 description to reflect the route point as a WP.

Once this action is completed, the SLLAP, MI, WP will continue to be depicted on the IFR En Route High Altitude charts and support air traffic control requirements.

United States Area Navigation Routes (Q-routes) are published in paragraph 2006 of FAA Order JO 7400.11F, dated August 10, 2021, and effective September 15, 2021, which is incorporated by reference in 14 CFR 71.1. The Q-440 route listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by amending Q-440 in Michigan. Q-440 extends between the HUFFR, MN, WP and the RAAKK, NY, WP. The DEANI, MI, fix will be changed to reflect the route point as the DEANI, MI, WP in the route description. The SLLAP, MI, WP route point is removed from the description of Q-440 between the DEANI, MI, WP and the BERYS, MI, WP. The SLLAP WP is on a straight segment of the route and not required to retain the route's structure. The charted depiction of Q-440 is unchanged and the full route description is listed in The Amendment section, below.

This is an administrative change and does not affect the Q-440 route structure, charted alignment, or the operating requirements of the route. Therefore, notice and public procedure under 5 U.S.C. 553(b) is unnecessary.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending the legal description of RNAV route Q-440, by changing one route point from a fix to a WP and removing an unnecessary route point from the route description, qualifies for categorical exclusion under the National Environmental Policy Act (42 U.S.C. 4321 et seq.) and its implementing regulations at 40 CFR part 1500. This is also in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points), and paragraph 5-6.5k, which categorically excludes from further environmental impact review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 2006 United States Area Navigation Routes.

* * * * *

Q-440 HUFFR, MN to RAAKK, NY [Amended]
HUFFR, MN | WP | (Lat. 45°08′48.63″ N, long. 093°29′29.66″ W)
IDIOM, WI | WP | (Lat. 44°30′18.00″ N, long. 088°17′57.00″ W)
DEANI, MI | WP | (Lat. 43°43′07.35″ N, long. 085°46′29.20″ W)
BERYS, MI | WP | (Lat. 42°54′33.97″ N, long. 083°17′59.75″ W)
TWIGS, MI | WP | (Lat. 42°48′34.10″ N, long. 082°33′10.30″ W)
JAAJA, Canada | WP | (Lat. 42°40′00.00″ N, long. 081°16′00.00″ W)
ICHOL, Canada | WP | (Lat. 42°38′31.46″ N, long. 080°30′13.99″ W)
FARGN, Canada | WP | (Lat. 42°36′42.19″ N, long. 079°47′18.42″ W)
RAAKK, NY | WP | (Lat. 42°23′59.00″ N, long. 078°54′39.00″ W)

Excluding the airspace within Canada.

* * * * *

Issued in Washington, DC, on June 27, 2022.
Scott M. Rosenbloom,
Manager, Airspace Rules and Regulations.

[FR Doc. 2022-14117 Filed 6-30-22; 8:45 am]

BILLING CODE 4910-13-P